DEPARTMENT OF STATE

[Public Notice: 11055]

Notice of Determinations; Culturally Significant Objects Re-Imported for Exhibition—Determinations: “Caravans of Gold, Fragments in Time: Art, Culture, and Exchange Across Medieval Saharan Africa” Exhibition

SUMMARY: Notice is hereby given of the following determinations: I hereby determine that certain objects included in the exhibition “Caravans of Gold, Fragments in Time: Art, Culture, and Exchange across Medieval Saharan Africa,” being re-imported from abroad for temporary exhibition within the United States, are of cultural significance. The objects are re-imported pursuant to loan agreements with the foreign owners or custodians. I also determine that the exhibition or display of the exhibit objects at the National Museum of African Art, Smithsonian Institution, Washington, District of Columbia, from on or about April 8, 2020, until on or about November 29, 2020, and at possible additional exhibitions or venues yet to be determined, is in the national interest. I have ordered that Public Notice of these determinations be published in the Federal Register.

FOR FURTHER INFORMATION CONTACT: Chi D. Tran, Program Administrator, Office of the Legal Adviser, U.S. Department of State (telephone: 202-632-6471; email: section2459@state.gov). The mailing address is U.S. Department of State, L/PD, SA-5, Suite 5H03, Washington, DC 20522-0505.

SUPPLEMENTARY INFORMATION: The foregoing determinations were made pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236-3 of August 28, 2000.

Marie Therese Porter Royce,
Assistant Secretary, Educational and Cultural Affairs, Department of State.

[FR Doc. 2020-04093 Filed 2-27-20; 8:45 am]

BILLING CODE 4710-05-P